FEDERAL RESERVE SYSTEM

Change in Bank Control Notices; Acquisitions of Shares of a Savings and Loan Holding Company

The notificants listed below have applied under the Change in Bank Control Act (12 U.S.C. 1817(j)) and the Board's Regulation LL (12 CFR part 238) to acquire shares of a savings and loan holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 22, 2016.

A. Federal Reserve Bank of Atlanta (Chapelle Davis, Assistant Vice President) 1000 Peachtree Street NE., Atlanta, Georgia 30309:

1. Peter William Hampton, Jr., Elizabethton, Tennessee, individually and as co-trustee of the Margaret Hampton Revocable Trust and the Peter W. Hampton Family and Marital Trust (The Trusts), and as custodian for William Spencer Hampton; and Harriette Lee Hampton, Ridgeland, Mississippi, individually and as co-trustee of The Trusts, and as power of attorney for Margaret Hampton, Elizabethton, Tennessee; to acquire additional voting shares of SFB Bancorp and thereby indirectly acquire additional voting shares of Security Federal Bank, Elizabethton, Tennessee.

Board of Governors of the Federal Reserve System, 2016.
Michael J. Lewandowski,
Associate Secretary of the Board.

[FR Doc. 2016-05049 Filed 3-7-16; 8:45 am]

BILLING CODE 6210-01-P